DEPARTMENT OF ENERGY

Federal Energy Regulatory Commission

Combined Notice of Filings #2

Take notice that the Commission received the following electric rate filings:

Docket Numbers: ER22-1726-000.

Applicants: Pacific Gas and Electric Company.

Description: § 205(d) Rate Filing: Q1 2022 Quarterly Filing of City and County of San Francisco's WDT SA (SA 275) to be effective 3/31/2022.

Filed Date: 4/29/22.

Accession Number: 20220429-5145.

Comment Date: 5 p.m. ET 5/20/22.

Docket Numbers: ER22-1727-000.

Applicants: Public Service Company of New Mexico.

Description: § 205(d) Rate Filing: Second Revised Service Agreement No. 493 to be effective 6/1/2022.

Filed Date: 4/29/22.

Accession Number: 20220429-5148.

Comment Date: 5 p.m. ET 5/20/22.

Docket Numbers: ER22-1728-000.

Applicants: Basin Electric Power Cooperative.

Description: § 205(d) Rate Filing: Basin Electric Submission of Revised Wholesale Power Contract—Rate Schedule 17 to be effective 3/24/2022.

Filed Date: 4/29/22.

Accession Number: 20220429-5149.

Comment Date: 5 p.m. ET 5/20/22.

Docket Numbers: ER22-1729-000.

Applicants: Midway-Sunset Cogeneration Company.

Description: § 205(d) Rate Filing: Midway Sunset Cogeneration Offer of Settlement to be effective 2/1/2021.

Filed Date: 4/29/22.

Accession Number: 20220429-5165.

Comment Date: 5 p.m. ET 5/20/22.

Docket Numbers: ER22-1730-000.

Applicants: Tri-State Generation and Transmission Association, Inc.

Description: § 205(d) Rate Filing: Initial Filing of Rate Schedule FERC No. 341 and Request for Expedited Action to be effective 5/31/2022.

Filed Date: 4/29/22.

Accession Number: 20220429-5166.

Comment Date: 5 p.m. ET 5/20/22.

Docket Numbers: ER22-1731-000.

Applicants: Southwest Power Pool, Inc.

Description: § 205(d) Rate Filing: Missouri River Energy Service Revisions to Formula Rate to be effective 7/1/2022.

Filed Date: 4/29/22.

Accession Number: 20220429-5172.

Comment Date: 5 p.m. ET 5/20/22.

Docket Numbers: ER22-1732-000.

Applicants: Wind Capital Holdings, LLC.

Description: § 205(d) Rate Filing: Notice of Change in Status, Revised MBR Tariffs, and Request for Waiver to be effective 5/2/2022.

Filed Date: 4/29/22.

Accession Number: 20220429-5185.

Comment Date: 5 p.m. ET 5/20/22.

Docket Numbers: ER22-1733-000.

Applicants: New York Independent System Operator, Inc.

Description: § 205(d) Rate Filing: 205 filing of proposed tariff amendments related to BPCG payment eligibility to be effective 6/29/2022.

Filed Date: 4/29/22.

Accession Number: 20220429-5187.

Comment Date: 5 p.m. ET 5/20/22.

Docket Numbers: ER22-1734-000.

Applicants: AV Solar Ranch 1, LLC.

Description: § 205(d) Rate Filing: Notice of Change in Status, Revised MBR Tariffs, and Request for Waiver to be effective 5/2/2022.

Filed Date: 4/29/22.

Accession Number: 20220429-5189.

Comment Date: 5 p.m. ET 5/20/22.

Docket Numbers: ER22-1735-000.

Applicants: Beebe 1B Renewable Energy, LLC.

Description: § 205(d) Rate Filing: Notice of Change in Status, Revised MBR Tariffs, and Request for Waiver to be effective 5/2/2022.

Filed Date: 4/29/22.

Accession Number: 20220429-5192.

Comment Date: 5 p.m. ET 5/20/22.

Docket Numbers: ER22-1736-000.

Applicants: Beebe Renewable Energy, LLC.

Description: § 205(d) Rate Filing: Notice of Change in Status, Revised MBR Tariffs, and Request for Waiver to be effective 5/2/2022.

Filed Date: 4/29/22.

Accession Number: 20220429-5193.

Comment Date: 5 p.m. ET 5/20/22.

Docket Numbers: ER22-1737-000.

Applicants: Bluestem Wind Energy, LLC.

Description: § 205(d) Rate Filing: Notice of Change in Status, Revised MBR Tariffs, and Request for Waiver to be effective 5/2/2022.

Filed Date: 4/29/22.

Accession Number: 20220429-5194.

Comment Date: 5 p.m. ET 5/20/22.

Docket Numbers: ER22-1738-000.

Applicants: New England Power Pool Participants Committee.

Description: § 205(d) Rate Filing: May 2022 Membership Filing to be effective 5/1/2022.

Filed Date: 4/29/22.

Accession Number: 20220429-5197.

Comment Date: 5 p.m. ET 5/20/22.

Docket Numbers: ER22-1739-000.

Applicants: Calvert Cliffs Nuclear Power Plant, LLC.

Description: § 205(d) Rate Filing: Notice of Change in Status, Revised MBR Tariffs, and Request for Waiver to be effective 5/2/2022.

Filed Date: 4/29/22.

Accession Number: 20220429-5199.

Comment Date: 5 p.m. ET 5/20/22.

Docket Numbers: ER22-1740-000.

Applicants: Cassia Gulch Wind Park, LLC.

Description: § 205(d) Rate Filing: Notice of Change in Status, Revised MBR Tariffs, and Request for Waiver to be effective 5/2/2022.

Filed Date: 4/29/22.

Accession Number: 20220429-5201.

Comment Date: 5 p.m. ET 5/20/22.

Docket Numbers: ER22-1741-000.

Applicants: Public Service Company of New Mexico.

Description: § 205(d) Rate Filing: 1st Revised Service Agreement No. 488 to be effective 6/1/2022.

Filed Date: 4/29/22.

Accession Number: 20220429-5202.

Comment Date: 5 p.m. ET 5/20/22.

Docket Numbers: ER22-1742-000.

Applicants: CER Generation, LLC.

Description: § 205(d) Rate Filing: Notice of Change in Status, Revised MBR Tariffs, and Request for Waiver to be effective 5/2/2022.

Filed Date: 4/29/22.

Accession Number: 20220429-5204.

Comment Date: 5 p.m. ET 5/20/22.

Docket Numbers: ER22-1743-000.

Applicants: Indeck Corinth Limited Partnership.

Description: § 205(d) Rate Filing: Indeck Corinth Notice of Change in Status and Seller Category Designation to be effective 5/2/2022.

Filed Date: 4/29/22.

Accession Number: 20220429-5206.

Comment Date: 5 p.m. ET 5/20/22.

Docket Numbers: ER22-1744-000.

Applicants: Indeck Energy Services of Silver Springs, Inc.

Description: § 205(d) Rate Filing: Indeck Silver Springs Notice of Change in Status and Seller Category Designation to be effective 5/2/2022.

Filed Date: 4/29/22.

Accession Number: 20220429-5209.

Comment Date: 5 p.m. ET 5/20/22.

Docket Numbers: ER22-1745-000.

Applicants: Indeck-Olean Limited Partnership.

Description: § 205(d) Rate Filing: Indeck Olean Notice of Change in Status & Change in Seller Category Designation to be effective 5/2/2022.

Filed Date: 4/29/22.

Accession Number: 20220429-5212.

Comment Date: 5 p.m. ET 5/20/22.

Docket Numbers: ER22-1747-000.

Applicants: Constellation Energy Generation, LLC.

Description: § 205(d) Rate Filing: Notice of Change in Status, Revised MBR Tariffs, and Request for Waiver to be effective 5/2/2022.

Filed Date: 4/29/22.

Accession Number: 20220429-5213.

Comment Date: 5 p.m. ET 5/20/22.

Docket Numbers: ER22-1748-000.

Applicants: Indeck-Oswego Limited Partnership.

Description: § 205(d) Rate Filing: Indeck Oswego Notice of Change in Status and Seller Category Designation to be effective 5/2/2022.

Filed Date: 4/29/22.

Accession Number: 20220429-5215.

Comment Date: 5 p.m. ET 5/20/22.

Docket Numbers: ER22-1749-000.

Applicants: Constellation FitzPatrick, LLC.

Description: § 205(d) Rate Filing: Notice of Change in Status, Revised MBR Tariffs, and Request for Waiver to be effective 5/2/2022.

Filed Date: 4/29/22.

Accession Number: 20220429-5216.

Comment Date: 5 p.m. ET 5/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2022.
Debbie-Anne A. Reese,
Deputy Secretary.

[FR Doc. 2022-09648 Filed 5-4-22; 8:45 am]

BILLING CODE 6717-01-P